DEPARTMENT OF COMMERCE

International Trade Administration

[A-570-806]

Silicon Metal From the People's Republic of China: Final Results and Partial Rescission of the 2008-2009 Administrative Review of the Antidumping Duty Order

AGENCY: Import Administration, International Trade Administration, Department of Commerce.

SUMMARY: On July 15, 2010, the Department of Commerce (“Department”) published Silicon Metal from the People's Republic of China: Preliminary Results and Preliminary Rescission, in Part, of Antidumping Duty Administrative Review, 75 FR 41143 (July 15, 2010) (“Preliminary Results”). The period of review (“POR”) is June 1, 2008, through May 31, 2009.

The Department received a timely request from Petitioner, Globe Metallurgical Inc. (“Globe”), in accordance with 19 CFR 351.213(b), for an administrative review of the antidumping duty order on silicon metal from the People's Republic of China (“PRC”) for three companies: Datong Jinneng Industrial Silicon Co., Ltd. (“Datong Jinneng”),¹ Jiangxi Gangyuan Silicon Industry Co., Ltd. (“Jiangxi Gangyuan”),² and Shanghai Jinneng International Trade Co., Ltd. (“Shanghai Jinneng”). The Department also received a timely request from Shanghai Jinneng and Datong Jinneng (Shanghai Jinneng's affiliated producer of subject merchandise) for an administrative review of Shanghai Jinneng. On July 29, 2009, the Department published a notice of initiation of an antidumping duty administrative review on silicon metal from the PRC, in which we initiated a review of Datong Jinneng, Jiangxi Gangyuan, and Shanghai Jinneng.³ In the Preliminary Results, the Department preliminarily rescinded this review with respect to Jiangxi Gangyuan and Datong Jinneng ⁴ because they certified that they had no shipments and we found no indication through our examination of U.S. Customs and Border Protection (CBP) data that there were any shipments of subject merchandise by these parties during the POR. The Department has not obtained any evidence to contradict this preliminary finding, and no interested parties commented on the finding. Accordingly, we are rescinding the review with respect to Datong Jinneng and Jiangxi Gangyuan. Consequently, the administrative review covers one respondent, Shanghai Jinneng.

¹ The abbreviation “Inc.” incorrectly appeared after “Datong Jinneng Industrial Silicon Co.” in the Initiation Notice. The abbreviation “Ltd.” should have been used.

² We have used the abbreviation “Co.” rather than “Company”, which was used in the Initiation Notice, because “Co.” is used in the Automated Customs System Module.

³ See Initiation of Antidumping and Countervailing Duty Administrative Reviews and Deferral of Administrative Review, 74 FR 37690 (July 29, 2009) (“Initiation Notice”).

⁴ Datong Jinneng was Shanghai Jinneng's affiliated producer of subject merchandise during the POR and is involved in the instant administrative review as such (see Shanghai Jinneng's Response to Section A (October 16, 2009) at 14). However, we are rescinding the review with respect to Datong Jinneng (as an exporter of subject merchandise), based on its no shipments certification, which we confirmed using CBP data.

We invited interested parties to comment on our Preliminary Results. Based on our analysis of the comments received, we made certain changes to our margin calculation for Shanghai Jinneng. The final dumping margin for this review is listed in the “Final Results Margins” section below.

DATES: Effective Date: January 19, 2011.

FOR FURTHER INFORMATION CONTACT: Demitri Kalogeropoulos or Andrew Medley, AD/CVD Operations, Office 8, Import Administration, International Trade Administration, U.S. Department of Commerce, 14th Street and Constitution Avenue, NW., Washington, DC 20230; telephone: (202) 482-2623 and (202) 482-4987, respectively.

Background

On July 15, 2010, the Department published its Preliminary Results in the antidumping duty administrative review of silicon metal from the PRC.

For the final results, Globe requested a hearing with the Department on August 16, 2010. Shanghai Jinneng and Globe submitted briefs and rebuttal briefs on August 23, 2010, and September 6, 2010, respectively. We returned Globe's August 23, 2010, case brief because it included untimely filed, new factual information. We allowed Globe to redact the new information and resubmit. Globe submitted its redacted case brief on September 3, 2010. On October 13, 2010, the Department published a notice extending the deadline for the final results of the 2008-2009 administrative review to January 11, 2011. See Silicon Metal From the People's Republic of China; Extension of Time Limit for the Final Results of the 2008-2009 Administrative Review of the Antidumping Duty Order, 75 FR 62765 (October 13, 2010). The Department released industry-specific wage rate information on November 18, 2010, and revised data on November 23, 2010. Shanghai Jinneng submitted comments for wage rate issues on November 30, 2010. Globe submitted rebuttal comments for wage rate issues on December 6, 2010. On December 9, 2010, the Department conducted a hearing with interested parties.

Analysis of Comments Received

All issues raised in the case briefs, rebuttal briefs, and wage rate comments filed by parties in this review are addressed in the Memorandum from Christian Marsh, Deputy Assistant Secretary for Antidumping and Countervailing Duty Operations, to, Ronald K. Lorentzen, Deputy Assistant Secretary for Import Administration, regarding Silicon Metal from the People's Republic of China: Issues and Decision Memorandum for the Final Results of the 2008-2009 Administrative Review, dated concurrently with this notice, (“Issues and Decision Memorandum”), which is hereby adopted by this notice. A list of the issues that parties raised and to which we responded in the Issues and Decision Memorandum follows as an appendix to this notice. The Issues and Decision Memorandum is a public document and is on file in the Central Records Unit (“CRU”), Main Commerce Building, Room 7046, and is also accessible on the Web at http://ia.ita.doc.gov/frn. The paper copy and electronic version of the Issues and Decision Memorandum are identical in content.

Period of Review

The POR is June 1, 2008, through May 31, 2009.

Scope of the Order

The product covered by the order is silicon metal containing at least 96.00 but less than 99.99 percent of silicon by weight, and silicon metal with a higher aluminum content containing between 89 and 96 percent silicon by weight. The subject merchandise is currently classifiable under item numbers 2804.69.10 and 2804.69.50 of the Harmonized Tariff Schedule of the United States (“HTSUS”) as a chemical product, but is commonly referred to as a metal. Semiconductor-grade silicon (silicon metal containing by weight not less than 99.99 percent of silicon and provided for in subheading 2804.61.00 of the HTSUS) is not subject to this order. This order is not limited to silicon metal used only as an alloy agent or in the chemical industry. Although the HTSUS subheadings are provided for convenience and customs purposes, the written description of the merchandise is dispositive.

Changes Since the Preliminary Results

Based on an analysis of the comments received, the Department has made certain changes in the margin calculation. For the final results, the Department has made the following changes:

• Valuation of Wage Rate

For the Preliminary Results, the Department revised the calculation of wage rate pursuant to a recent decision by the U.S. Court of Appeals for the Federal Circuit (“CAFC”).⁵ For the final results, we have calculated a revised hourly wage rate to use in valuing reported labor. The revised wage rate is calculated by averaging earnings and/or wages for ISIC Rev.3 Sub-Classification 27 (Manufacture of basic metals) in countries that are economically comparable to the PRC and that are also significant producers of comparable merchandise. See Comment 8 of the Issues and Decision Memorandum. See also Memorandum titled “Antidumping Duty Administrative Review of Silicon Metal from the People's Republic of China: Selection of Surrogate Values” (“Surrogate Value Memorandum”).

⁵ See Dorbest v. United States, 604 F.3d 1363 (Fed. Cir. 2010).

• Valuation of Silica Fume

For the final results, we have valued the byproduct, silica fume, using the silica fume value from the previous review of this proceeding, after adjusting for inflation. See Comment 5 of the Issues and Decision Memorandum. See also Surrogate Value Memorandum.

• Selection of Financial Ratios

For the final results, we have included the financial statements of Vipra Ferro Alloys Private Ltd. and Lalwani Ferro Alloys Ltd. in our calculation of surrogate financial ratios. See Comment 9 of the Issues and Decision Memorandum. See also Surrogate Value Memorandum.

• Adjustments to Financial Statements

We made a correction to the financial ratios of Saturn Ferro Alloys Private Ltd. See Comment 10 of the Issues and Decision Memorandum. See also Surrogate Value Memorandum.

Final Results Margin

We determine the weighted-average dumping margin for Shanghai Jinneng for the period June 1, 2008, through May 31, 2009, to be 3.14 percent.

Assessment Rates

Pursuant to section 751(a)(2)(A) of the Tariff Act of 1930, as amended (“Act”), and 19 CFR 351.212(b), the Department will determine, and CBP shall assess, antidumping duties on all appropriate entries of subject merchandise in accordance with the final results of this review. For assessment purposes, we calculated importer (or customer)-specific assessment rates for merchandise subject to this review. Where appropriate, we calculated an ad valorem rate for each importer (or customer) by dividing the total dumping margins for reviewed sales to that party by the total entered values associated with those transactions. For duty-assessment rates calculated on this basis, we will direct CBP to assess the resulting ad valorem rate against the entered customs values for the subject merchandise. Where appropriate, we calculated a per-unit rate for each importer (or customer) by dividing the total dumping margins for reviewed sales to that party by the total sales quantity associated with those transactions. For duty-assessment rates calculated on this basis, we will direct CBP to assess the resulting per-unit rate against the entered quantity of the subject merchandise. Where an importer (or customer)-specific assessment rate is de minimis (i.e., less than 0.50 percent), the Department will instruct CBP to assess that importer (or customer's) entries of subject merchandise without regard to antidumping duties, in accordance with 19 CFR 351.106(c)(2). We intend to instruct CBP to liquidate entries containing subject merchandise exported by the PRC-wide entity at the PRC-wide rate. The Department intends to issue assessment instructions to CBP 15 days after the date of publication of these final results of review.

Cash Deposit Requirements

The following cash deposit requirements will be effective upon publication of the final results of this administrative review for all shipments of the subject merchandise entered, or withdrawn from warehouse, for consumption on or after the publication date, as provided for by section 751(a)(2)(C) of the Act: (1) For Shanghai Jinneng, the cash deposit rate will be the rate as listed above in the “Final Results Margins” section of this notice; (2) for previously investigated or reviewed PRC and non-PRC exporters not listed above that have separate rates, the cash deposit rate will continue to be the exporter-specific rate published for the most recent period; (3) for all PRC exporters of subject merchandise which have not been found to be entitled to a separate rate, the cash deposit rate will be the PRC-wide rate of 139.49 percent; and (4) for all non-PRC exporters of subject merchandise which have not received their own rate, the cash deposit rate will be the rate applicable to the PRC exporter that supplied that non-PRC exporter. The deposit requirements shall remain in effect until further notice.

Notification to Importers

This notice also serves as a final reminder to importers of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification to Interested Parties

This notice also serves as a reminder to parties subject to administrative protective order (“APO”) of their responsibility concerning the return or destruction of proprietary information disclosed under the APO in accordance with 19 CFR 351.305(a)(3), which continues to govern business proprietary information in this segment of the proceeding. Timely written notification of the return/destruction of APO materials or conversion to judicial protective order is hereby requested. Failure to comply with the regulations and terms of an APO is a violation which is subject to sanction.

Disclosure

We will disclose the calculations performed within five days of the date of publication of this notice to parties in this proceeding in accordance with 19 CFR 351.224(b).

We are issuing and publishing the final results and notice in accordance with sections 751(a)(1) and 777(i)(1) of the Act.

Dated: January 11, 2011.
Ronald K. Lorentzen,
Deputy Assistant Secretary for Import Administration.

Appendix I

Comment 1: VAT and Export Taxes

Comment 2: Use of Entries Versus Sales

Comment 3: Whether To Adjust Datong Jinneng's Electricity Consumption

Comment 4: Whether To Adjust Datong Jinneng's Labor Hours

Comment 5: Valuation and Treatment of Silica Fume

Comment 6: Valuation of Coal

Comment 7: Valuation of Electricity

Comment 8: Valuation of Labor

Comment 9: Selection of Financial Statements

Comment 10: Adjustments to Financial Ratios

[FR Doc. 2011-1051 Filed 1-18-11; 8:45 am]

BILLING CODE 3510-P